DEPARTMENT OF THE INTERIOR

National Park Service

[NPS-WASO-NAGPRA-NPS0037266; PPWOCRADN0-PCU00RP14.R50000]

Notice of Inventory Completion: Office of the State Archaeologist Bioarchaeology Program, University of Iowa, Iowa City, IA

AGENCY: National Park Service, Interior.

ACTION: Notice.

SUMMARY: In accordance with the Native American Graves Protection and Repatriation Act (NAGPRA), the Office of the State Archaeologist Bioarchaeology Program (OSA-BP) has completed an inventory of human remains and has determined that there is no cultural affiliation between the human remains and any Indian Tribe. The human remains were removed from Clayton and Jasper Counties, IA, possibly Plymouth County, IA, and unknown locations in Iowa.

DATES: Disposition of the human remains in this notice may occur on or after February 20, 2024.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the OSA-BP. The National Park Service is not responsible for the determinations in this notice. Additional information on the determinations in this notice, including the results of consultation, can be found in the inventory or related records held by the OSA-BP.

Description

At an unknown date, human remains representing a minimum of one individual were removed from an unknown location. Dr. R. Summa donated the human cranium to the University of Iowa College of Dentistry in 1918. The cranium became part of the Dental Museum collections (catalog #116), and was described in museum records as a “Mound builder's skull.” At an unknown date, a large part of the museum collection was placed in storage. The collection was rediscovered in 2000, and the Native American human remains were transferred to the OSA-BP. A 30- to 50-year-old adult is represented (Burial Project 1445). No associated funerary objects are present.

At an unknown date, human remains representing a minimum of one individual were removed from an unknown location. A human metacarpal was found in the Paul Sagers Collection reposed at the OSA. The collection primarily includes materials from prehistoric archeological sites in Jones and Jackson counties in Iowa, but the exact provenience of the metacarpal is unknown. An adult or older juvenile of indeterminate sex is represented by the human remains (Burial Project 2519). No associated funerary objects are present.

In 1916, human remains representing at minimum one individual were removed from an unknown location in a pasture 12 miles northwest of Sioux City, IA. In 2023, the Sanford Museum in Cherokee, IA received the isolated femur representing an adult female of unknown age from a local resident and transferred the human remains to the OSA-BP (BP 3594). A label on the bone indicates the limited provenience information. No associated funerary objects are present.

At an unknown time, human remains representing, at minimum, eight individuals were removed from an unknown location, likely in Iowa. The individuals were likely excavated from a mound context. One middle-aged adult female, a middle-aged adult male, three adults of unknown sex and age, an infant, a juvenile 6-8 years old, and a juvenile of unknown age are represented (BP3623). No associated funerary objects are present.

At an unknown time, possibly around the 1930s and 40s, human remains representing, at minimum, five individuals were removed from an unknown location. The individuals were acquired by a private citizen through unknown means. Upon his death, the family donated the human remains as well as his artifact collection from known mound sites in Iowa to the Iowa State Historical Society; the human remains were transferred to the OSA-BP. Two adult males, one adult of unknown age and sex, one juvenile aged 3-8 years, and one juvenile aged 12-16 years are represented (BP 3758). No associated funerary objects are present.

In 2023, human remains representing, at minimum, one individual were removed from 13CY82 in Clayton County, IA. A partial cranium was found on a sand bar in the Little Sioux River in Clay County, IA by kayakers. The Clay County Sheriff's Department documented the find spot (now designated site number 13CY82), and transferred the human remains to the Iowa State Medical Examiner's Office (IOSME). The human remains representing and adult female of unknown age were determined to be ancient and not of medicolegal significance and were transferred to the OSA-BP (BP3818). Their original burial location is unknown. No associated funerary objects are present.

In 2023, human remains representing, at minimum, one individual were removed from 13JP261 in Jasper County, IA. A partial cranium was found on a sand bar in Indian Creek north of Mingo, IA by a local resident. The Jasper County Sheriff transferred the human remains to the IOSME. The human remains representing and adult male of unknown age were determined to be ancient and not of medicolegal significance and were transferred to the OSA-BP (BP3835). The find spot was designated site number 13JP261. The individual's original burial location is unknown. No associated funerary objects are present.

Aboriginal Land

The human remains in this notice were removed from known geographic locations. These locations are the aboriginal lands of one or more Indian Tribes. The following information was used to identify the aboriginal land: a final judgment of the Indian Claims Commission or the United States Court of Claims, treaties, oral history, and consultation with 26 signatory Tribes to the Process for Reburial of Culturally Unidentifiable Native American Human Remains and Associated Funerary Objects originating from Iowa.

Determinations

Pursuant to NAGPRA and its implementing regulations, and after consultation with the appropriate Indian Tribes, the OSA-BP has determined that:

• The human remains described in this notice represent the physical remains of 18 individuals of Native American ancestry.

• No relationship of shared group identity can be reasonably traced between the human remains and associated funerary objects and any Indian Tribe.

• The human remains and associated funerary objects described in this notice were removed from the aboriginal land of the Cheyenne River Sioux Tribe of the Cheyenne River Reservation, South Dakota; Citizen Potawatomi Nation, Oklahoma; Flandreau Santee Sioux Tribe of South Dakota; Ho-Chunk Nation of Wisconsin; Iowa Tribe of Kansas and Nebraska; Iowa Tribe of Oklahoma; Lower Sioux Indian Community in the State of Minnesota; Miami Tribe of Oklahoma; Omaha Tribe of Nebraska; Otoe-Missouria Tribe of Indians, Oklahoma; Pawnee Nation of Oklahoma; Peoria Tribe of Indians of Oklahoma; Ponca Tribe of Indians of Oklahoma; Ponca Tribe of Nebraska; Prairie Band Potawatomi Nation; Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Spirit Lake Tribe, North Dakota; The Osage Nation; Three Affiliated Tribes of the Fort Berthold Reservation, North Dakota; Upper Sioux Community, Minnesota; Winnebago Tribe of Nebraska; and the Yankton Sioux Tribe of South Dakota.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after February 20, 2024. If competing requests for disposition are received, the OSA-BP must determine the most appropriate requestor prior to disposition. Requests for joint disposition of the human remains are considered a single request and not competing requests. The OSA-BP is responsible for sending a copy of this notice to the Indian Tribes identified in this notice.

Authority: Native American Graves Protection and Repatriation Act, 25 U.S.C. 3003, and the implementing regulations, 43 CFR 10.9 and 10.11.

Dated: January 11, 2024.
Melanie O'Brien,
Manager, National NAGPRA Program.

[FR Doc. 2024-00834 Filed 1-17-24; 8:45 am]

BILLING CODE 4312-52-P